DEPARTMENT OF HEALTH AND HUMAN SERVICES

National Institutes of Health

Center for Scientific Review; Amended Notice of Meeting

Notice is hereby given of a change in the meeting of the Molecular and Integrative Signal Transduction Study Section, May 25, 2010, 8 a.m. to May 26, 2010, 5:30 p.m., Hotel Palomar, 2121 P Street, NW., Washington, DC 20037 which was published in the Federal Register on April 14, 2010, 75 FR 19408-19409.

The meeting will be one day only May 25, 2010, from 8 a.m. to 6:30 p.m. The meeting location remains the same. The meeting is closed to the public.

Dated: April 26, 2010.
Jennifer Spaeth,
Director, Office of Federal Advisory Committee Policy.

[FR Doc. 2010-10148 Filed 4-29-10; 8:45 am]

BILLING CODE 4140-01-P